DEPARTMENT OF LABOR

Occupational Safety and Health Administration

[Docket No. OSHA-2006-0042]

CSA Group Testing & Certification, Inc.: Grant of Expansion of Recognition

AGENCY: Occupational Safety and Health Administration (OSHA), Labor.

ACTION: Notice.

SUMMARY: In this notice, OSHA announces the final decision to expand the scope of recognition of CSA Group Testing & Certification, Inc., as a Nationally Recognized Testing Laboratory (NRTL).

DATES: The expansion of the scope of recognition becomes effective on September 21, 2023.

FOR FURTHER INFORMATION CONTACT: Information regarding this notice is available from the following sources:

Press inquiries: Contact Mr. Frank Meilinger, Director, OSHA Office of Communications, U.S. Department of Labor, telephone: (202) 693-1999; email: meilinger.francis2@dol.gov.

General and technical information: Contact Mr. Kevin Robinson, Director, Office of Technical Programs and Coordination Activities, Directorate of Technical Support and Emergency Management, Occupational Safety and Health Administration, U.S. Department of Labor, phone: (202) 693-2300 or email: robinson.kevin@dol.gov.

SUPPLEMENTARY INFORMATION:

I. Notice of Final Decision

OSHA hereby gives notice of the expansion of the scope of recognition of CSA Group Testing & Certification, Inc. (CSA) as a NRTL. CSA's expansion covers the addition of sixteen test sites to its NRTL scope of recognition.

OSHA recognition of a NRTL signifies that the organization meets the requirements specified in 29 CFR 1910.7. Recognition is an acknowledgment that the organization can perform independent safety testing and certification of the specific products covered within the scope of recognition. Each NRTL's scope of recognition includes (1) the type of products the NRTL may test, with each type specified by the applicable test standard and (2) the recognized site(s) that has/have the technical capability to perform the product-testing and product-certification activities for test standards within the NRTL's scope. Recognition is not a delegation or grant of government authority; however, recognition enables employers to use products approved by the NRTL to meet OSHA standards that require product testing and certification.

The agency processes applications by a NRTL for initial recognition, as well as for an expansion or renewal of recognition, following requirements in Appendix A to 29 CFR 1910.7. This appendix requires that the agency publish two notices in the Federal Register in processing an application. In the first notice, OSHA announces the application and provides the preliminary finding. In the second notice, the agency provides the final decision on the application. These notices set forth the NRTL's scope of recognition or modifications of that scope. OSHA maintains an informational web page for each NRTL, including CSA, which details that NRTL's scope of recognition. These pages are available from the OSHA website at http://www.osha.gov/dts/otpca/nrtl/index.html.

CSA submitted an application, dated December 15, 2020 (OSHA-2006-0042-0034), requesting the conversion of sixteen existing Satellite Notification Acceptance Program (SNAP) sites to recognized sites under the NRTL Policy for Transitioning to Satellite Notification and Acceptance Program Termination (SNAP Transition Policy) published in the Federal Register on November 24, 2020 (85 FR 75042), as amended by a June 22, 2022 Memorandum from James S. Frederick, Deputy Assistant Secretary for Occupational Safety and Health, to Regional Administrators and Executive Staff, titled “Second Revision to the Nationally Recognized Testing Laboratory (NRTL) Policy for Transitioning to Satellite Notification and Acceptance Program (SNAP) Termination.”

OSHA published the preliminary notice announcing CSA's expansion application in the Federal Register on August 15, 2023 (88 FR 55480). The agency requested comments by August 30, 2023, but it received no comments in response to this notice. OSHA is now proceeding with this final grant of expansion of CSA's NRTL recognition.

To obtain or review copies of all public documents pertaining to the CSA application, go to http://www.regulations.gov or contact the Docket Office, Occupational Safety and Health Administration, U.S. Department of Labor. Docket No. OSHA-2006-0042 contains all materials in the record concerning CSA's recognition. All submissions, including copyrighted material, are available for inspection through the OSHA Docket Office. Contact the OSHA Docket Office at (202) 693-2350 (TTY number (877) 889-5627) for assistance in locating docket submissions.

II. Final Decision and Order

OSHA staff examined CSA's expansion application, its capability to meet the requirements of the test standards, and other pertinent information. Based on its review of this evidence, OSHA finds that CSA meets the requirements of 29 CFR 1910.7 for expansion of its recognition, subject to the specified limitations and condition. OSHA limits the expansion of CSA's recognition to include the sixteen sites listed in Table 1, below. This limitation is consistent with the recognition that OSHA grants to other NRTLs that operate multiple sites.

Table 1—List of Test Sites for Inclusion in CSA's NRTL Scope of Recognition
CSA site name | Address | Country
CSA Group Milan | Palazzo Cassiopea, Via Paracelso N 22 20864 Agrate Brianza, Italy | Italy.
CSA Group Dallas | 2860 Guilder Drive, Plano, Texas 75074 | United States.
CSA Group Bangalore | Beary's Global Research Triangle, A-3, Einstein Building Bidarahalli Hobli, Whitefield Ashram Road (SH 35) Bangalore—560 067, India | India.
CSA Group Hawarden | Unit 6 Hawarden Industrial Park Hawarden, CH5 3US, United Kingdom | United Kingdom.
CSA Group Plattling | Straubinger Str. 100 94447 Plattling, Germany | Germany.
CSA Group Seoul | 494, Wiryesunhwan-ro, Songpa-gu Seoul, Republic of Korea | Korea.
CSA Group Taoyuan | No. 26, Fuxing 3rd Road Guishan District, Taoyuan City, Taiwan | Taiwan.
CSA Group Taipei | 5F No. 12, Wenhu Street Neihu District, Taipei City 114 Taiwan | Taiwan.
CSA Group Tokyo | 5-40-6 Koishikawa Bunkyo-ku Tokyo 112-0002 Japan | Japan.
CSA Group Shanghai | Floor 1, Building 4 Qilai Industrial City, 889 Yishan Road, Shanghai, China 200233 | China.
CSA Group Atlanta | 6215 Shiloh Crossing, Building 100 Suite A, Alpharetta, GA 30005 | United States.
CSA Group Taichung | 2F. -5 No. 633, Sec. 2, Taiwan Blvd. Xitun District, Taichung City 407, Taiwan | Taiwan.
CSA Group Kunshan | Floor 1, Building 8 Tsinghua Science Park No. 1666 Zuchongzhi Road Kunshan, Jiangsu, China 215347 | China.
CSA Group Arnhem | Utrechtseweg 310, 6812 AR Arnhem, Netherlands | Netherlands.
CSA Group Guangzhou | No. 10, Ke Yan Road, Guangzhou Science Park Huang Pu District, Guangzhou, China 510663 | China.
CSA Group Frankfurt | Weismullerstr. 45, 60314 Frankfurt, Germany | Germany.

A. Conditions

In addition to those conditions already required by 29 CFR 1910.7, CSA must abide by the following conditions of the recognition:

1. CSA must inform OSHA as soon as possible, in writing, of any change of ownership, facilities, or key personnel, and of any major change in its operations as a NRTL, and provide details of the change(s);

2. CSA must meet all the terms of its recognition and comply with all OSHA policies pertaining to this recognition; and

3. CSA must continue to meet the requirements for recognition, including all previously published conditions on CSA's scope of recognition, in all areas for which it has recognition.

Pursuant to the authority in 29 CFR 1910.7, OSHA hereby expands the scope of recognition of CSA as a NRTL, subject to the limitations and conditions specified above.

III. Authority and Signature

James S. Frederick, Deputy Assistant Secretary of Labor for Occupational Safety and Health, authorized the preparation of this notice. Accordingly, the agency is issuing this notice pursuant to 29 U.S.C. 657(g)(2), Secretary of Labor's Order No. 8-2020 (85 FR 58393, Sept. 18, 2020), and 29 CFR 1910.7.

Signed at Washington, DC.
James S. Frederick,
Deputy Assistant Secretary of Labor for Occupational Safety and Health.

[FR Doc. 2023-20402 Filed 9-20-23; 8:45 am]

BILLING CODE 4510-26-P